DEPARTMENT OF DEFENSE

48 CFR Part 214

Defense Federal Acquisition Regulation Supplement; Technical Amendments; Correction

AGENCY: Department of Defense (DoD).

ACTION: Correction to final rule.

SUMMARY: DoD is issuing a correction to the final rule published at 68 FR 7438-7441 on February 14, 2003, making technical amendments to the Defense Federal Acquisition Regulation Supplement. This correction is needed because the February 14, 2003, final rule contained an incorrect paragraph designation.

EFFECTIVE DATE: February 14, 2003.

FOR FURTHER INFORMATION CONTACT: Ms. Michele Peterson, Defense Acquisition Regulations Council, OUSD (AT&L) DPAP (DAR), IMD 3C132, 3062 Defense Pentagon, Washington, DC 20301-3062. Telephone (703) 602-0311; facsimile (703) 602-0350.

Correction

In the issue of Friday, February 14, 2003, on page 7439, in the third column, amendatory instruction 16 and the corresponding regulatory text are corrected by removing “(vii)” and adding in its place “(viii)”.

Michele P. Peterson,
Executive Editor, Defense Acquisition Regulations Council.

[FR Doc. 03-4699 Filed 2-27-03; 8:45 am]

BILLING CODE 5001-08-P